DEPARTMENT OF HOMELAND SECURITY

Coast Guard

[USCG-2006-23736]

Collection of Information Under Review by Office of Management and Budget: OMB Control Numbers 1625-0047, 1625-0063, 1625-0070, and 1625-0084

AGENCY: Coast Guard, DHS.

ACTION: Request for comments.

SUMMARY: In compliance with the Paperwork Reduction Act of 1995, the U.S. Coast Guard intends to seek the approval of OMB for the renewal of four Information Collection Requests (ICRs). The ICRs are: (1) 1625-0047, Plan Review and Records for Vital System Automation; (2) 1625-0063, Marine Occupational Health and Safety Standards for Benzene—46 CFR 197 Subpart C; (3) 1625-0070, Vessel Identification System; and (4) 1625-0084, Audit Reports under the International Safety Management Code. Before submitting the ICRs to OMB, the Coast Guard is inviting comments on them as described below.

DATES: Comments must reach the Coast Guard on or before April 10, 2006.

ADDRESSES: To make sure that your comments and related material do not enter the docket [USCG-2006-23736] more than once, please submit them by only one of the following means:

(1) By mail to the Docket Management Facility, U.S. Department of Transportation (DOT), room PL-401, 400 Seventh Street, SW., Washington, DC 20590-0001.

(2) By delivery to room PL-401 on the Plaza level of the Nassif Building, 400 Seventh Street, SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this notice. Comments and material received from the public, as well as documents mentioned in this notice as being available in the docket, will become part of this docket and will be available for inspection or copying at room PL-401 on the Plaza level of the Nassif Building, 400 Seventh Street, SW., Washington, DC, between 9 a.m. and 5 p.m., Monday through Friday, except Federal holidays. You may also find this docket on the Internet at http://dms.dot.gov.

Copies of the complete ICRs are available through this docket on the Internet at http://dms.dot.gov, and also from Commandant (CG-611), U.S. Coast Guard Headquarters, (Attn: Mr. Arthur Requina), 1900 Half Street, SW., Washington, DC 20593-0001. The telephone number is 202-475-3523.

FOR FURTHER INFORMATION CONTACT: Mr. Arthur Requina, Office of Information Management, telephone 202-475-3523, or fax 202-475-3929, for questions on these documents; or telephone Ms. Renee V. Wright, Program Manager, Docket Operations, 202-493-0402, for questions on the docket.

SUPPLEMENTARY INFORMATION:

Public Participation and Request for Comments

We encourage you to respond to this request for comments by submitting comments and related materials. We will post all comments received, without change, to http://dms.dot.gov; they will include any personal information you have provided. We have an agreement with DOT to use the Docket Management Facility. Please see the paragraph on DOT's “Privacy Act Policy” below.

Submitting comments: If you submit a comment, please include your name and address, identify the docket number [USCG-2006-23736], indicate the specific section of the document to which each comment applies, and give the reason for each comment. You may submit your comments and material by electronic means, mail, fax, or delivery to the Docket Management Facility at the address under ADDRESSES; but please submit them by only one means. If you submit them by mail or delivery, submit them in an unbound format, no larger than 8½ by 11 inches, suitable for copying and electronic filing. If you submit them by mail and would like to know that they reached the Facility, please enclose a stamped, self-addressed postcard or envelope. We will consider all comments and material received during the comment period. We may change the documents supporting this collection of information or even the underlying requirements in view of them.

Viewing comments and documents: To view comments, as well as documents mentioned in this notice as being available in the docket, go to http://dms.dot.gov at any time and conduct a simple search using the docket number. You may also visit the Docket Management Facility in room PL-401 on the Plaza level of the Nassif Building, 400 Seventh Street, SW., Washington, DC, between 9 a.m. and 5 p.m., Monday through Friday, except Federal holidays.

Privacy Act: Anyone can search the electronic form of all comments received in dockets by the name of the individual submitting the comment (or signing the comment, if submitted on behalf of an association, business, labor union, etc.). You may review the Privacy Act Statement of DOT in the Federal Register published on April 11, 2000 (65 FR 19477), or you may visit http://dms.dot.gov.

Information Collection Request

1. Title: Plan Review and Records for Vital System Automation.

Omb Control Number: 1625-0047.

Summary: This collection pertains to the vital system automation on commercial vessels that is necessary to protect personnel and property on board U.S. flag vessels.

Need: 46 U.S.C. 3306 authorizes the Coast Guard to promulgate regulations for the safety of personnel and property on board vessels. Various sections within parts 52, 56, 58, 62, 110, 111, and 113 of 46 CFR contain these rules.

Respondents: Designers, manufacturers, and owners of vessels.

Frequency: On occasion.

Burden Estimate: The estimated burden has increased from 57,375 hours to 65,400 hours a year.

2. Title: Marine Occupational Health and Safety Standards for Benzene—46 CFR 197 Subpart C.

OMB Control Number: 1625-0063.

Summary: To protect marine workers from exposure to toxic Benzene vapor, the Coast Guard implemented 46 CFR 197 Subpart C.

Need: This information collection is vital to verifying compliance.

Respondents: Owners and operators of vessels.

Frequency: On occasion.

Burden Estimate: The estimated burden remains 59,766 hours a year.

3. Title: Vessel Identification System.

OMB Control Number: 1625-0070.

Summary: The Coast Guard established a nationwide Vessel Identification System (VIS). VIS provides participating States and Territories with access to data on vessels numbered by States and Territories. Participation in VIS is voluntary.

Need: 46 U.S.C. 12501 mandates the establishment of a VIS. 33 CFR part 187 prescribe the requirements of VIS.

Respondents: Governments of States and Territories.

Frequency: Daily.

Burden Estimate: The estimated burden has decreased from 6,045 hours to 5,829 hours a year.

4. Title: Audit Reports under the International Safety Management (ISM) Code.

Omb Control Number: 1625-0084.

Summary: This information helps to determine whether U.S. vessels, subject to International Convention for the Safety of Life at Sea (SOLAS) 74, engaged in international trade, are in compliance with that treaty. Organizations recognized by the Coast Guard conduct ongoing audits of vessels' and companies' safety management systems.

Need: 46 U.S.C. 3203 authorizes the Coast Guard to prescribe regulations regarding safety management systems. 33 CFR part 96 contains the rules for those systems and hence the safe operation of vessels.

Respondents: Owners and operators of vessels, and organizations authorized to issue ISM Code certificates for the U.S.

Frequency: On occasion.

Burden Estimate: The estimated burden has increased from 8,440 hours to 12,676 hours a year.

Dated: February 2, 2006.
R.T. Hewitt,
Rear Admiral, U.S. Coast Guard, Assistant Commandant for Command, Control, Communications, Computers and Information Technology.

[FR Doc. E6-1643 Filed 2-7-06; 8:45 am]

BILLING CODE 4910-15-P